DEPARTMENT OF HOMELAND SECURITY

Customs and Border Protection

Departmental Advisory Committee on Commercial Operations of Customs and Border Protection and Related Functions (COAC)

ACTION: Notice of meeting.

SUMMARY: This notice announces the date, time, and location for the third meeting of the ninth term of the Departmental Advisory Committee on Commercial Operations of Customs and Border Protection and Related Functions (COAC), and the expected agenda for its consideration.

DATES: The next meeting of the COAC will be held on Thursday, October 6, 2005, 9 a.m. to 1 p.m.

ADDRESSES: The meeting will be held at the Crowne Plaza Redondo Beach & Marina Hotel, 300 North Harbor Drive, Redondo Beach, CA 90277, Phone: 310-318-8888; the meeting is in the “Seascape” room of this hotel.

FOR FURTHER INFORMATION CONTACT: Ms. Monica Frazier, Office of the Assistant Secretary for Border and Transportation Security, Department of Homeland Security, Washington, DC 20528, telephone 202-282-8431; facsimile 202-282-8504.

SUPPLEMENTARY INFORMATION: The third meeting of the ninth term of the Departmental Advisory Committee on Commercial Operations of Customs and Border Protection and Related Functions (COAC) will be held at the date, time and location specified above. This notice announces the expected agenda for that meeting. This meeting is open to the public; however, participation in COAC deliberations is limited to COAC members, Homeland Security and Treasury Department officials, and persons invited to attend the meeting for special presentations. Since seating is limited, all persons attending this meeting should provide notice preferably by 2 p.m. e.s.t. on Monday, October 3, 2005, to Ms. Monica Frazier, Office of the Assistant Secretary for Border and Transportation Security, Department of Homeland Security, Washington, DC 20528, telephone 202-282-8431; facsimile 202-282-8504.

Information on Services for Individuals With Disabilities: For information on facilities or services for individuals with disabilities or to request special assistance at the meeting, contact Ms. Monica Frazier, Office of the Assistant Secretary for Border and Transportation Security, Department of Homeland Security, Washington, DC 20528, telephone 202-282-8431; facsimile 202-282-8504, as soon as possible.

Draft Agenda

The COAC is expected to pursue the following agenda, which may be modified prior to the meeting:

1. Introductory Remarks

2. World Customs Organization (WCO) Security Framework/Implementation

A. Adoption of the Framework—June 2005

B. Creation of the Private Sector Consultative Group

3. Continuity Planning

A. Homeland Security Presidential Directive (HSPD) 13 (White House Release)

B. Coordination of Planning Groups (National Maritime Security Advisory Committee (NMSAC), etc)

4. Security Subcommittee—Customs-Trade Partnership Against Terrorism (C-TPAT)

A. Carrier Criteria

B. Benefits Update

C. Automation Update

5. Update on Infrastructure Issues

6. Secure Freight

7. Updates from CBP

A. Textiles & Apparel Entry Processing—Import Requirements

B. Container Seals Regulatory Status

C. International Trade Data Systems

D. Update on ACE

8. Update from COAC

A. Broker Confidentiality

B. Other

9. New Action Items

A. Next Committee Meeting—Washington DC (December)

B. Other

Dated: September 2, 2005.
Elaine Dezenski,
Acting Assistant Secretary, Border and Transportation Security Policy and Planning.

[FR Doc. 05-17953 Filed 9-9-05; 8:45 am]

BILLING CODE 9110-06-P